DEPARTMENT OF THE INTERIOR

Bureau of Indian Affairs

Draft Environmental Impact Statement for the Proposed Pueblo of Jemez 70.277-Acre Fee-to-Trust Transfer and Casino Project, Doña Ana County, NM

AGENCY: Bureau of Indian Affairs, Interior.

ACTION: Notice of availability; correction.

SUMMARY: The Bureau of Indian Affairs (BIA) published a document in the Federal Register of April 8, 2011, advising the public that the Bureau of Indian Affairs (BIA), as lead agency, in cooperation with the Pueblo of Jemez, intends to file a Draft Environmental Impact Statement (DEIS) with the U.S. Environmental Protection Agency (EPA) for the proposed approval of a 70.277 acre fee-to-trust transfer and casino project to be located within Doña Ana County, New Mexico. The document contained an error in the public comment deadline.

DATES: Written comments on the DEIS must arrive by June 1, 2011.

FOR FURTHER INFORMATION CONTACT: Priscilla Wade (505) 563-3417.

SUPPLEMENTARY INFORMATION:

Corrections

In the Federal Register of April 8, 2011, in FR Doc. 2011-8035, on page 19783, in the second column, in the DATES section, change “May 23, 2011” to “June 1, 2011.”

Dated: May 6, 2011.
Donald Laverdure,
Principal Deputy Assistant Secretary—Indian Affairs.

[FR Doc. 2011-12412 Filed 5-19-11; 8:45 am]

BILLING CODE 4310-W7-P